DEPARTMENT OF COMMERCE

National Oceanic and Atmospheric Administration

RIN 0648-XG571

Endangered and Threatened Species; Take of Anadromous Fish

AGENCY: National Marine Fisheries Service (NMFS), National Oceanic and Atmospheric Administration (NOAA), Commerce.

ACTION: Notice; availability of hatchery plan and request for comment.

SUMMARY: Notice is hereby given that the Bureau of Reclamation (Reclamation) and the California Department of Fish and Wildlife (CDFW) have submitted a Hatchery and Genetics Management Plan (HGMP) pursuant to the protective regulations promulgated for Pacific salmon and steelhead under the Endangered Species Act (ESA). The HGMP specifies the operation of a hatchery program rearing coho salmon in the upper Trinity River within the State of California. This document serves to notify the public of the availability of the HGMP and associated draft environmental assessment (EA) for comment prior to a decision by NMFS whether to approve the proposed hatchery program.

DATES: Comments must be received at the appropriate address or fax number (see ADDRESSES) no later than 5 p.m. Pacific time on December 7, 2018.

ADDRESSES: Written comments on the application should be addressed to NMFS West Coast Region, California Coastal Office, 1655 Heindon Road, Arcata, CA 95521, or faxed to (707) 825-4840. Comments may be submitted by email to: TrinityRiverHatchery Plan.wcr@noaa.gov. Include in the subject line of the email comment the following identifier: Comments on the Trinity River Hatchery plan.

FOR FURTHER INFORMATION CONTACT: Seth Naman, at phone number: (707) 825-5180, or via email: Seth.Naman@noaa.gov.

SUPPLEMENTARY INFORMATION:

Species covered in this notice:

Coho salmon (O. kisutch): Threatened, naturally produced and artificially propagated Southern Oregon/Northern California (SONCC).

Reclamation and CDFW have submitted an HGMP to NMFS describing a hatchery program that releases coho salmon into the upper Trinity River, in northern California, for consideration pursuant to Limit 5 of the ESA 4(d) rule for salmon and steelhead.

The hatchery program that is the subject of the NMFS evaluation would operate to produce coho salmon to mitigate for lost natural production that would have occurred in historic spawning habitat upstream of the Trinity River Dam and the Lewiston Dam (i.e., habitat blocked since the dams were constructed). The program would propagate coho salmon smolts that are derived from the local coho salmon population in the Trinity River, matching natural-origin coho salmon with their natural counterparts whenever possible, and striving for a high proportion of natural influence (average greater than 0.67). Measures would be applied in the hatchery program to reduce the risk of incidental adverse genetic, ecological, and demographic effects on natural-origin salmon populations.

As specified in the July 10, 2000, ESA 4(d) rule for salmon and steelhead (65 FR 42422) and updated June 28, 2005 (70 FR 37160), NMFS may approve an HGMP if it meets criteria set forth in 50 CFR 223.203(b)(5)(i)(A) through (K). Prior to final approval of an HGMP, NMFS must publish notification announcing its availability for public review and comment.

Authority

Under section 4 of the ESA, the Secretary of Commerce is required to adopt such regulations as s/he deems necessary and advisable for the conservation of species listed as threatened under the ESA. The ESA salmon and steelhead 4(d) rule (65 FR 42422, July 10, 2000, as updated in 70 FR 37160, June 28, 2005), specifies categories of activities that contribute to the conservation of ESA-listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS in accordance with the salmon and steelhead 4(d) rule (65 FR 42422, July 10, 2000, as updated in 70 FR 37160, June 28, 2005).

Dated: November 1, 2018.
Angela Somma,
Chief, Endangered Species Conservation Division, Office of Protected Resources, National Marine Fisheries Service.

[FR Doc. 2018-24384 Filed 11-6-18; 8:45 am]

BILLING CODE 3510-22-P